DEPARTMENT OF ENERGY

Federal Energy Regulatory Commission

[Docket No. CP02-82-000]

Equitrans, L.P.; Notice of Application

March 1, 2002.

Take notice that on February 7, 2002, Equitrans, L.P. (Equitrans), 100 Allegheny Center Mall Pittsburgh, PA 15212, tendered for filing an abbreviated application for a certificate of public convenience and necessity pursuant to section 7(b) of the Natural Gas Act (NGA) to abandon certain service agreements, all as more fully set forth in the application, which is on file and open to public inspection. The application may be viewed on the Web at www.ferc.gov using the “RIMS” link, select “Docket #” from the RIMS menu and follow the instructions (call (202) 208-2222 for assistance).

Equitrans requests authority to abandon firm storage services provided for Elizabethtown Gas Company (now NUI Corporation), New Jersey Natural Gas Company and South Jersey Gas Company provided under its Rate Schedule SS-3 and to abandon the firm transportation service provided to Elizabethtown Gas Company under its Rate Schedule STS-1. Equitrans asserts that the various agreements for storage and transportation with these shippers expire by the terms of the agreements on April 1, 2002. Equitrans further asserts that these shippers seek to discontinue service. Equitrans submits that the Commission authorized these service agreements in Docket No. CP85-876-000. No abandonment of any facility is proposed.

Any question regarding this application may be directed to Mr. Fredrick Dalena, Vice President, Equitrans, L.P., 100 Allegheny Center Mall Pittsburgh, PA 15212, at (412) 395-3270.

Any person desiring to be heard or to protest these filings should file a motion to intervene or protest with the Federal Energy Regulatory Commission, 888 First Street, NE., Washington, DC 20426, by or before March 22, 2002, in accordance with Sections 385.214 and 385.211 of the Commission's Rules and Regulations. Protests will be considered by the Commission in determining the appropriate action to be taken, but will not serve to make Protestants parties to the proceeding. Any person wishing to become a party must file a motion to intervene. Copies of this filing are on file with the Commission and are available for public inspection in the Public Reference Room.

Comments, protests, and interventions may be filed electronically via the Internet in lieu of paper. See 18 CFR 385.2001(a)(1)(iii) and the instructions on the Commission's Web site under the “e-filing” link.

Take notice that, pursuant to the authority contained in and subject to the jurisdiction conferred upon the Commission by sections 7 and 15 of the Natural Gas Act and the Commission's Rules of Practice and Procedure, a hearing will be held without further notice before the Commission on this application if no protest or motion to intervene is filed within the time required herein. At that time, the Commission, on its own review of the matter, will determine whether granting the abandonment is required by the public convenience and necessity. If a petition for leave to intervene is timely filed, or if the Commission on its own motion believes that a formal hearing is required, further notice of such hearing will be duly given.

Under the procedure herein provided for, unless otherwise advised, it will be unnecessary for Equitrans to appear or be represented at the hearing.

Magalie R. Salas,
Secretary.

[FR Doc. 02-5440 Filed 3-6-02; 8:45 am]

BILLING CODE 6717-01-P